DEPARTMENT OF ENERGY

Federal Energy Regulatory Commission

Combined Notice of Filings #2

Take notice that the Commission received the following electric rate filings:

Docket Numbers: ER19-910-000.

Applicants: Alabama Power Company.

Description: § 205(d) Rate Filing: APCo-Gulf TFCAT Amended and Restated Service Agreements Filing to be effective 1/1/2019.

Filed Date: 1/30/19.

Accession Number: 20190130-5088.

Comments Due: 5 p.m. ET 2/20/19.

Docket Numbers: ER19-911-000.

Applicants: Public Service Company of Colorado.

Description: § 205(d) Rate Filing: 2019-01-30 SPS Wholesale Real Power Losses-Filing to be effective 4/1/2019.

Filed Date: 1/30/19.

Accession Number: 20190130-5089.

Comments Due: 5 p.m. ET 2/20/19.

Docket Numbers: ER19-912-000.

Applicants: Georgia Power Company.

Description: § 205(d) Rate Filing: GPC-Gulf Scherer 3 TFCAT Amended and Restated Service Agreement Filing to be effective 1/1/2019.

Filed Date: 1/30/19.

Accession Number: 20190130-5091.

Comments Due: 5 p.m. ET 2/20/19.

Docket Numbers: ER19-913-000.

Applicants: PacifiCorp.

Description: Tariff Cancellation: Termination of EWEB Non-Conf PTP Agreement to be effective 2/1/2019.

Filed Date: 1/30/19.

Accession Number: 20190130-5123.

Comments Due: 5 p.m. ET 2/20/19.

Docket Numbers: ER19-914-000.

Applicants: San Diego Gas & Electric Company.

Description: § 205(d) Rate Filing: Service Agreement No. 59 FERC Electric Tariff Volume No. 11 Mesquite Solar 5 to be effective 2/3/2019.

Filed Date: 1/30/19.

Accession Number: 20190130-5124.

Comments Due: 5 p.m. ET 2/20/19.

Docket Numbers: ER19-915-000.

Applicants: Midcontinent Independent System Operator, Inc.

Description: § 205(d) Rate Filing: 2019-01-30_RAN Outage Coordination Filing to be effective 4/1/2019.

Filed Date: 1/30/19.

Accession Number: 20190130-5125.

Comments Due: 5 p.m. ET 2/20/19.

Docket Numbers: ER19-916-000.

Applicants: Selmer Farm, LLC.

Description: Compliance filing: Compliance Filing—Category 2 Seller to be effective 3/31/2019.

Filed Date: 1/30/19.

Accession Number: 20190130-5130.

Comments Due: 5 p.m. ET 2/20/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 30, 2019.
Kimberly D. Bose,
Secretary.

[FR Doc. 2019-01152 Filed 2-5-19; 8:45 am]

BILLING CODE 6717-01-P